DEPARTMENT OF DEFENSE

GENERAL SERVICES ADMINISTRATION

NATIONAL AERONAUTICS AND SPACE ADMINISTRATION

[OMB Control No. 9000-0125]

Federal Acquisition Regulation; Information Collection; Written Refusal of a Utility Supplier To Execute a Utility Contract

AGENCIES: Department of Defense (DOD), General Services Administration (GSA), and National Aeronautics and Space Administration (NASA).

ACTION: Notice of request for public comments regarding an extension to an existing OMB clearance (9000-0125).

SUMMARY: Under the provisions of the Paperwork Reduction Act of 1995 (44 U.S.C. chapter 35), the Federal Acquisition Regulation (FAR) Secretariat will be submitting to the Office of Management and Budget (OMB) a request to review and approve an extension of a currently approved information collection requirement concerning written refusal of a utility supplier to execute a utility contract. This clearance currently expires on June 30, 2004.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before May 4, 2004.

FOR FURTHER INFORMATION CONTACT: Gerald Zaffos, Acquisition Policy Division, GSA (202) 208-6091.

ADDRESSES: Submit comments regarding this burden estimate or any other aspect of this collection of information, including suggestions for reducing this burden to the General Services Administration, FAR Secretariat, 1800 F Street, NW., Room 4035, Washington, DC 20405. Please cite OMB Control Number 9000-0125, Written Refusal of a Utility Supplier to Execute a Utility Contract, in all correspondence.

SUPPLEMENTARY INFORMATION:

A. Purpose

The FAR requires that contracts comply with the applicable Federal laws and the relevant parts of the FAR. The written and definite refusal by a utility supplier to execute a tendered contract (41.202(c)) is intended to identify those suppliers who refuse to do so and the rationale of the supplier for refusing.

B. Annual Reporting Burden

Respondents: 50.

Responses Per Respondent: 1.

Total Annual Responses: 50.

Hours Per Response: .50.

Total Burden Hours: 25.

Obtaining Copies of Proposals: Requesters may obtain a copy of the information collection documents from the General Services Administration, FAR Secretariat (MVA), Room 4035, 1800 F Street, NW., Washington, DC 20405, telephone (202) 501-4755. Please cite OMB Control Number 9000-0125, Written Refusal of a Utility Supplier to Execute a Utility Contract, in all correspondence.

Dated: March 2, 2004.
Rhonda Cundiff,
Acting Director, Acquisition Policy Division.

[FR Doc. 04-5001 Filed 3-4-04; 8:45 am]

BILLING CODE 6820-EP-P